DEPARTMENT OF THE INTERIOR

Fish and Wildlife Service

[Docket No. FWS-R8-ES-2020-0115; FXES11120800000-201-FF08ENVS00]

Draft Environmental Assessment and Proposed Habitat Conservation Plan for the Spring Mountain Raceway Northern Expansion, Pahrump, Nye County, Nevada

AGENCY: Fish and Wildlife Service, Interior.

ACTION: Notice of availability; request for comment.

SUMMARY: We, the U.S. Fish and Wildlife Service, announce the availability of a draft environmental assessment (EA) under the National Environmental Policy Act (NEPA). We also announce receipt of an application for an incidental take permit (ITP) under the Endangered Species Act (ESA), and of a draft habitat conservation plan (HCP). Spring Mountain Raceway, LLC has applied for an ITP under the ESA for an expansion project in Pahrump, Nye County, Nevada. The ITP would authorize the take of one species incidental to the project. We invite the public and local, State, Tribal, and Federal agencies to comment on the draft EA, HCP, and permit application. Before issuing the requested ITP, we will take into consideration any information we receive during the public comment period.

DATES: We must receive your written comments on or before November 2, 2020.

ADDRESSES:

Obtaining Documents: You may obtain copies of the draft EA, proposed HCP, and permit application in Docket No. FWS-R8-ES-2020-0115 at http://www.regulations.gov.

Submitting Comments: To submit written comments, please use one of the following methods, and note to which document(s) your comments pertain.

• Internet: http://www.regulations.gov; search for and submit comments in Docket No. FWS-R8-ES-2020-0115.

• U.S. Mail: Public Comments Processing, Attn: Docket No. FWS-R8-ES-2020-0115; U.S. Fish and Wildlife Service Headquarters, MS: PRB/3W; 5275 Leesburg Pike; Falls Church, VA 22041-3803.

For more information, see Public Comments and Public Availability of Comments under SUPPLEMENTARY INFORMATION.

FOR FURTHER INFORMATION CONTACT: Glen W. Knowles, Field Supervisor, Southern Nevada Fish and Wildlife Office, by phone at 702-515-5244, or via the Federal Information Relay Service at 800-877-8339.

SUPPLEMENTARY INFORMATION: We, the U.S Fish and Wildlife Service (Service), announce the availability of a draft Environmental assessment (draft EA) prepared pursuant to the National Environmental Policy Act of 1969, as amended (NEPA; 42 U.S.C. 4321 et seq.), and its implementing regulations in the Code of Federal Regulations (CFR) at 40 CFR 1506.6. We also announce receipt of an application submitted by Spring Mountain Raceway, LLC of Pahrump, Nevada (applicant), for a 5-year incidental take permit (ITP) under section 10 (a)(1)(B) of the Endangered Species Act, as amended (ESA; 16 U.S.C. 1531 et seq.). The application for the permit requires the preparation of a habitat conservation plan (HCP) with measures to avoid, minimize, and mitigate the impacts of incidental take of endangered or threatened species to the maximum extent practicable. The applicant prepared the draft Spring Mountain Raceway Northern Expansion HCP pursuant to section 10(a)(1)(B) of the ESA. The purpose of the draft EA is to assess the effects of issuing the ITP and implementing the draft HCP on the natural and human environment.

We invite the public and local, State, Tribal, and Federal agencies to comment on the draft EA, HCP, and permit application. Before issuing the requested ITP, we will take into consideration any information we receive during the public comment period.

Background

Section 9 of the ESA (16 U.S.C. 1538) prohibits the taking of fish and wildlife species listed as endangered under section 4 of the ESA; by regulation, take of certain species listed as threatened is also prohibited. (16 U.S.C. 1533(d); 50 CFR 17.31). Regulations governing permits for endangered and threatened species are at 50 CFR 17.22 and 17.32. For more about the Federal habitat conservation plan (HCP) program, go to http://www.fws.gov/endangered/esa-library/pdf/hcp.pdf.

National Environmental Policy Act Compliance

The proposed permit issuance triggers the need for compliance with the NEPA. The draft EA was prepared to analyze the impacts of issuing an ITP based on the draft HCP and to inform the public of the proposed action, any alternatives, and associated impacts, and to disclose any irreversible commitments of resources.

Proposed Action Alternative

Under the Proposed Action Alternative, the Service would issue an ITP to the applicant for a period of 5 years for certain covered activities (described below) to construct and operate an extension of the existing Spring Mountain Raceway. The extension includes 2.3 miles of additional track, flood management features, classrooms, parking area, and a paved paddock area for preparing cars. The applicant has requested an ITP for one covered species, the Mojave desert tortoise (Gopherus agassizii), which is listed under the ESA as threatened (April 2, 1990, 55 FR 12178).

Habitat Conservation Plan Area

The geographic scope of the draft HCP area comprises 227 acres of private land in the town of Pahrump, in Nye County, Nevada, where the development will occur.

Covered Activities

The proposed section 10(a) ITP would allow incidental take of one covered species from covered activities in the proposed HCP area. The applicant is requesting incidental take authorization for covered activities, including construction, operation, and maintenance of the facility within the 227 ac owned by the applicant.

Construction would begin after installation of a desert tortoise exclusion fence and removal of all tortoises. Construction would entail clearing of vegetation; grading and leveling of soil to achieve desired topography for the track, facilities, and flood management features; digging and trenching for utilities; placement of the new track base and surface; construction of the flood management features; construction of the buildings, parking areas, and paddock; and installation of the necessary underground power, phone, sewer, and water pipelines to the buildings. These activities would remove approximately half of the native vegetation in the area based on the preliminary design, but may remove more based on final design and future reconfiguration of the facility. Operation and maintenance of the expansion would entail use of the facility in a manner consistent with the existing interconnected facility, all of which will occur on private property within the desert tortoise exclusion fencing. Covered activities also include construction, operation, and maintenance equipment and other vehicle travel on existing access roads to the facility.

The applicant is proposing to implement best management practices, as well as general and species-specific measures to avoid and minimize the impacts of the take from the covered activities, including worker environmental and desert tortoise awareness training, installation and maintenance of desert tortoise exclusion fencing; tortoise removal, translocation, and monitoring; noxious weed management; dust control; and support of conservation and management measures to offset the loss of occupied habitat.

Covered Species

The applicant has requested an ITP for one federally listed threatened species:

• Mojave desert tortoise (Gopherus agassizii).

No Action Alternative

Under the No-Action Alternative, the Service would not issue an ITP to the applicant, and the draft HCP would not be implemented. Under this alternative, the applicant may choose not to construct the facility or would do so in a manner presumed not to result in the take of ESA-listed species.

Public Comments

We request data, comments, new information, or suggestions from the public, other concerned governmental agencies, the scientific community, Tribes, industry, or any other interested party on this notice, the draft EA and the draft HCP. If you wish to comment on the permit application, plan, and associated documents, you may submit comments by any one of the methods in ADDRESSES.

Public Availability of Comments

Any comments we receive will become part of the decision record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

Issuance of an incidental take permit is a Federal proposed action subject to compliance with NEPA and section 7 of the ESA. We will evaluate the application, associated documents, and any public comments we receive as part of our NEPA compliance process to determine whether the application meets the requirements of section 10(a) of the ESA. If we determine that those requirements are met, we will conduct an intra-Service consultation under section 7 of the ESA for the Federal action for the potential issuance of an ITP. If the intra-Service consultation confirms that issuance of the ITP will not jeopardize the continued existence of any endangered or threatened species, or destroy or adversely modify critical habitat, we will issue a permit to the applicant for the incidental take of the covered species.

Authority

We provide this notice under section 10(c) of the ESA (16 U.S.C. 1539(c)) and its implementing regulations (50 CFR 17.32), and NEPA (42 U.S.C. 4321 et seq.) and NEPA implementing regulations (40 CFR 1506.6).

Glen Knowles,
Field Supervisor, Southern Nevada Fish and Wildlife Office.

[FR Doc. 2020-21769 Filed 10-1-20; 8:45 am]

BILLING CODE 4333-15-P